DEPARTMENT OF COMMERCE

National Oceanic and Atmospheric Administration

[RTID 0648-XB161]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Northeast Fisheries Science Center contains all the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before July 2, 2021.

ADDRESSES: You may submit written comments by the following method:

• Email: NMFS.GAR.EFP@noaa.gov. Include in the subject line “Comments on NEFSC Ropeless Fishing EFP.” If you are unable to submit comments via the above email, please contact Laura Hansen at (978) 281-9225, or email at Laura.Hansen@noaa.gov.

FOR FURTHER INFORMATION CONTACT: Laura Hansen, Fishery Management Specialist, (978) 281-9225.

SUPPLEMENTARY INFORMATION: The Northeast Fisheries Science Center (NEFSC) submitted a complete application for an Exempted Fishing Permit (EFP) on February 19, 2021, to continue a ropeless lobster gear testing project. NEFSC is requesting an exemption from Federal lobster regulations that would authorize eight federally-permitted commercial lobster vessels to participate in a ropeless lobster gear study in inshore and offshore areas. NEFSC is requesting an exemption from the gear marking requirements at 50 CFR 697.21(b)(2) to allow for the use of no surface markers and/or a single buoy marker on a trawl of more than three traps.

The purpose of this study is to test a prototype ropeless fishing system as a potential technique to prevent entanglements of protected species, primarily North Atlantic right whales.

The EFP would authorize eight participating vessels to modify some of their existing trawls, consisting of 10-20 traps for inshore vessels and 35-45 traps for offshore vessels. Experimental trawls would either have a rope spool, a buoy and stowed rope system, or a lift bag system fitted with an acoustic release, deployed on one end of the trawl with a buoy line attached to the other. Soak time would be between 4-8 days, but may be modified depending on what each fisherman decides is appropriate for fishing. Sampling would occur year-round from July 2021 through July 2022 inshore and offshore in Lobster Management Areas (LMA) 1, 2, 3, and Outer Cape. This phase of the project is intended to resolve mechanical and operational problems highlighted by previous trials. Ideally, a NEFSC technician will be on board. If not, participants will use a GoPro System or an equivalent (or better) electronic monitoring program aimed at the relevant area to record the success and/or failures of some or all of the retrievals for review at a later time. NEFSC estimated there would be approximately 30 trips. Sixteen experimental trawls will be tested in LMA 3, 12 trawls in LMA 2, and 16 trawls in LMA 1.

If approved, the applicant may request minor modifications and extensions to the EFP throughout the year. We may grant EFP modifications and extensions without further notice if they are deemed essential to facilitate completion of the proposed research and have minimal impacts that do not change the scope or impact of the initially approved EFP request. The EFP would prohibit any fishing activity conducted outside the scope of the exempted fishing activities.

Authority: 16 U.S.C. 1801 et seq.

Dated: June 14, 2021.
Jennifer M. Wallace,
Acting Director, Office of Sustainable Fisheries, National Marine Fisheries Service.

[FR Doc. 2021-12825 Filed 6-16-21; 8:45 am]

BILLING CODE 3510-22-P